DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. The Bureau of Labor Statistics (BLS) is soliciting comments concerning the revision of the “Labor Market Information (LMI) Cooperative Agreement.” A copy of the proposed information collection request (ICR) can be obtained by contacting the individual listed below in the Addresses section of this notice.

DATES: Written comments must be submitted to the office listed in the Addresses section of this notice on or before May 19, 2003.

ADDRESSES: Send comments to Amy A. Hobby, BLS Clearance Officer, Division of Management Systems, Bureau of Labor Statistics, Room 4080, 2 Massachusetts Avenue, NE., Washington, DC 20212, telephone number (202) 691-7628 (this is not a toll free number).

FOR FURTHER INFORMATION CONTACT: Amy A. Hobby, BLS Clearance Officer, telephone number (202) 691-7628. (See ADDRESSES section).

SUPPLEMENTARY INFORMATION:

I. Background

The BLS enters into Cooperative Agreements with State Employment Security Agencies (SESAs) annually to provide financial assistance to the SESAs for the production and operation of the following LMI statistical programs: Current Employment Statistics, Local Area Unemployment Statistics, Occupational Employment Statistics, Covered Employment and Wages Report, and Mass Layoff Statistics. The Cooperative Agreement provides the basis for managing the administrative and financial aspects of these programs.

II. Desired Focus of Comments

The BLS is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

Office of Management and Budget (OMB) clearance is being sought for the LMI Cooperative Agreement. The existing collection of information allows Federal staff to negotiate the Cooperative Agreement with the SESAs and monitor their financial and programmatic performance and adherence to administrative requirements imposed by common regulations implementing OMB Circular A-102 and other grant-related regulations. The information collected also is used for planning and budgeting at the Federal level and in meeting Federal reporting requirements.

Type of Review: Extension of a currently approved collection.

Agency: Bureau of Labor Statistics.

Title: Labor Market Information (LMI) Cooperative Agreement.

OMB Number: 1220-0079.

Affected Public: State, Local or Tribal Governments.

Frequency: Monthly, quarterly, annually.

Information collection | Respondents | Frequency | Responses | Time | Total hours
Work Statements | 55 | 1 | 55 | 1-2 hr | 55-110
BIF (LMI 1A, 1B) | 55 | 1 | 55 | 1-6 hr | 55-330
Quarterly Automated Financial Reports | 48 | 4 | 192 | 10-50 min | 32-160
Monthly Automated Financial Reports | 48 | 8* | 384 | 5-25 min | 32-160
BLS Cooperative Statistics Financial Report (LMI 2A) | 7 | 12 | 84 | 1-5 hr | 84-420
Quarterly Status Report (LMI 2B) | 1-30 | 4 | 4-120 | 1 hr | 4-120
Budget Variance Request Form | 1-55 | 1 | 1-55 | 5-25 min | 0-23
Total | 1-55 |  | 775-945 |  | 262-1323
Average Totals | 55 |  | 860 |  | 793
* Reports are not received for end-of-quarter months, i.e., December, March, June, September.

Total Burden Cost (capital/startup): $0.

Total Burden Cost (operating/maintenance): $0.

Comments submitted in response to this notice will be summarized and/or included in the request for OMB approval of the information collection request; they also will become a matter of public record.

Signed at Washington, DC this 11th day of March, 2003.
Jesús Salinas,
Acting Chief, Division of Management Systems, Bureau of Labor Statistics.

[FR Doc. 03-6693 Filed 3-19-03; 8:45 am]

BILLING CODE 4510-24-P